DEPARTMENT OF LABOR

Employment and Training Administration

[TA-W-65,590]

Johnson Controls, Inc., Pulaski, TN; Notice of Termination of Investigation

Pursuant to Section 221 of the Trade Act of 1974, as amended, an investigation was initiated on March 13, 2009 in response to a worker petition filed by a company official on behalf of workers of Johnson Controls, Inc., Pulaski, Tennessee.

The petitioner has requested that the petition be withdrawn. Consequently, the investigation has been terminated.

Signed at Washington, DC, this 16th day of April 2009.
Elliott S. Kushner,
Certifying Officer, Division of Trade Adjustment Assistance.

[FR Doc. E9-10913 Filed 5-8-09; 8:45 am]

BILLING CODE 4510-FN-P